UNIFIED CARRIER REGISTRATION PLAN

Sunshine Act Meeting Notice; Unified Carrier Registration Plan Board Subcommittee Meeting

TIME AND DATE: July 15, 2021, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 967 8846 9785, to listen and participate in this meeting. The website to participate via Zoom Meeting and Screenshare is https://kellen.zoom.us/j/96788469785.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Agenda will be reviewed, and the Subcommittee will consider adoption of the agenda.

Ground Rules

➢ Subcommittee action only to be taken in designated areas on agenda.

IV. Review and Approval of Subcommittee Minutes From the May 13, 2021 Subcommittee Meeting—Subcommittee Chair

For Discussion and Possible Subcommittee Action

Draft minutes from the May 13, 2021 Subcommittee meeting via teleconference will be reviewed. The Subcommittee will consider action to approve.

V. UCR Pilot Projects 2021/2022—UCR Executive Director and DSL Transportation Services, Inc. (“DSL”)

For Discussion and Possible Subcommittee Action

The UCR Executive Director and DSL will lead a discussion regarding potential pilot projects that the UCR may pursue to optimize registration compliance. The Subcommittee may take action to recommend to the UCR Board proceeding with one or more pilot projects.

VI. Review of 2021 Administrative Expenses—UCR Depository Manager

The UCR Depository Manager will review the expenditures of the UCR Plan for the first six months ended June 30, 2021 with the Subcommittee.

VII. Review of 2022 Administrative Budget—UCR Depository Manager

The UCR Depository Manager will lead a discussion regarding the initial preparation of the 2022 UCR administrative budget.

VIII. 2023 Fee Change Recommendation—Subcommittee Chair and UCR Depository Manager

For Discussion and Possible Subcommittee Action

The Subcommittee Chair and the UCR Depository Manager will lead a discussion regarding the results of an analysis of actual and forecasted 2021 registration year revenue data for the purpose of making a fee change proposal to the UCR Board for the 2023 registration year. In addition, the discussion may include potential adjustments to the 2023 administrative operating budget that could impact the fee change calculations. The Subcommittee may take action to make a proposal to the UCR Board of Directors regarding a fee change recommendation for the 2023 UCR registration year.

IX. Maturing of Certificate of Deposit (“CD”)—UCR Depository Manager

For Discussion and Possible Subcommittee Action

The UCR Depository Manager will provide an update on the CD which matures in August 2021. The Subcommittee may take action to recommend a plan to the Board for reinvesting the proceeds.

X. Other Business—Subcommittee Chair

The Subcommittee Chair will call for any other items Subcommittee members would like to discuss.

XI. Adjournment—Subcommittee Chair

The Subcommittee Chair will adjourn the meeting.

The agenda will be available no later than 5:00 p.m. Eastern time, July 7, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-14744 Filed 7-7-21; 4:15 pm]

BILLING CODE 4910-YL-P